ENVIRONMENTAL PROTECTION AGENCY

40 CFR Part 450

[EPA-HQ-OW-2010-0884; FRL-9926-32-OW]

Effluent Limitations Guidelines and Standards for the Construction and Development Point Source Category; Correcting Amendment

AGENCY: Environmental Protection Agency (EPA).

ACTION: Final rule; correcting amendment.

SUMMARY: On March 6, 2014, EPA published a final rule in the Federal Register revising effluent limitations guidelines and standards for the construction and development point source category. This correcting amendment corrects errors in the amendatory language of the March 6, 2014 final rule.

DATES: The indefinite stay at 40 CFR 450.22(a) and (b) is lifted and this rule is effective on May 4, 2015.

FOR FURTHER INFORMATION CONTACT: Mr. Jesse W. Pritts, Engineering and Analysis Division, Office of Water (4303T), Environmental Protection Agency, 1200 Pennsylvania Ave. NW., Washington, DC 20460; telephone number: 202-566-1038; fax number: 202-566-1053; email address: pritts.jesse@epa.gov.

SUPPLEMENTARY INFORMATION: EPA published a final rule on March 6, 2014 (79 FR 12661) to amend 40 CFR part 450. The amendatory instructions EPA provided in this final rule for the changes at 40 CFR 450.22(a) and (b) were incorrect. Since the provisions at § 450.22(a) and (b) had been previously indefinitely stayed by EPA, the amendatory instructions should have included a lift of the stay so that the CFR could reflect that those provisions had been amended. EPA did not include language lifting the stay in the March 6, 2014 amendatory instructions. This action provides corrected amendatory instructions so that the amendments promulgated on March 6, 2014 can be incorporated into the CFR.

EPA has determined that this action falls under the “good cause” exemption in section 553(b)(3)(B) of the Administrative Procedure Act (APA), which, upon finding “good cause,” authorizes agencies to dispense with public participation where public notice and comment procedures are impracticable, unnecessary, or contrary to the public interest. Public notice and comment for this action is unnecessary because this action only incorporates previously promulgated regulatory changes into the CFR. EPA inadvertently provided incorrect instructions to incorporate those changes into the CFR. EPA can identify no reason why the public would be interested in having the opportunity to comment on the correction prior to this action being finalized since this action does not alter any regulatory requirements.

EPA also finds that there is good cause under APA section 553(d)(3) for this correction to become effective on the date of publication of this action. Section 553(d)(3) of the APA allows an effective date less than 30 days after publication “as otherwise provided by the agency for good cause found and published with the rule.” 5 U.S.C. 553(d)(3). The purpose of the 30-day waiting period prescribed in APA section 553(d)(3) is to give affected parties a reasonable time to adjust their behavior and prepare before the final rule takes effect. This rule, however, does not alter any regulatory requirements, and thus there are no affected parties as explained above. Rather, this action merely corrects inadvertent errors in the amendatory language for the CFR. For these reasons, EPA finds good cause under APA section 553(d)(3) for this correction to become effective on the date of publication of this action.

Statutory and Executive Order Reviews

A. Executive Order 12866: Regulatory Planning and Review and Executive Order 13563: Improving Regulation and Regulatory Review

This action is not a significant regulatory action and was therefore not submitted to the Office of Management and Budget (OMB) for review.

B. Paperwork Reduction Act (PRA)

This action does not impose an information collection burden under the PRA. This action corrects an inadvertent error in the amendatory instructions of EPA's March 6, 2014, final rule regarding the construction and development point source category and imposes no information collection burden on the industry because it does not contain any information collection activities.

C. Regulatory Flexibility Act (RFA)

The Administrator certifies that this action will not have a significant economic impact on a substantial number of small entities under the RFA. This action will not impose any requirements on small entities. This action corrects an inadvertent error in the amendatory instructions of EPA's March 6, 2014, final rule regarding the construction and development point source category and imposes no additional requirements on the industry.

D. Unfunded Mandates Reform Act (UMRA)

This action does not contain any unfunded mandate as described in UMRA, 2 U.S.C. 1531-1538, and does not significantly or uniquely affect small governments. The action imposes no enforceable duty on any state, local or tribal governments or the private sector.

E. Executive Order 13132: Federalism

This action does not have federalism implications. It will not have substantial direct effects on the states, on the relationship between the national government and the states, or on the distribution of power and responsibilities among the various levels of government.

F. Executive Order 13175: Consultation and Coordination With Indian Tribal Governments

This action does not have tribal implications as specified in Executive Order 13175 because it will not have a substantial direct effect on one or more Indian tribes, on the relationship between the Federal Government and Indian tribes, or on the distribution of power and responsibilities between the Federal Government and Indian tribes, as specified by Executive Order 13175 (65 FR 67249, November 9, 2000). Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution or Use

This action is not subject to Executive Order 13211, because it is not a significant regulatory action under Executive Order 12866.

I. National Technology Transfer and Advancement Act (NTTAA)

This rulemaking does not involve technical standards.

J. Executive Order 12898: Federal Actions To Address Environmental Justice in Minority Populations and Low-Income Populations

This action is not subject to Executive Order 12898 because it does not concern or affect human health or environmental risk.

K. Congressional Review Act (CRA)

This action is subject to the CRA, and the EPA will submit a rule report to each House of the Congress and to the Comptroller General of the United States. The CRA allows the issuing agency to make a rule effective sooner than otherwise provided by the CRA if the agency makes a good cause finding that notice and comment rulemaking procedures are impracticable, unnecessary or contrary to the public interest (5 U.S.C. 808(2)). The EPA has made a good cause finding for this rule, as discussed in the SUPPLEMENTARY INFORMATION section of this preamble, which includes the basis for that finding.

List of Subjects in 40 CFR Part 450

Environmental protection, Construction industry, Land development, Water pollution control.

Dated: April 24, 2015.
Kenneth J. Kopocis,
Deputy Assistant Administrator, Office of Water.

In rule FR Doc. 2014-04612 published on March 6, 2014, (79 FR 12661), make the following correction:

On page 12667, in the second column, revise amendatory instruction number 4. to read as follows:

§ 450.22 [Corrected]

4. Amend § 450.22 by:

a. Lifting the indefinite stay on paragraphs (a) and (b); and

b. Removing and reserving paragraphs (a) and (b).

[FR Doc. 2015-10362 Filed 5-1-15; 08:45 am]

BILLING CODE 6560-50-P